DEPARTMENT OF STATE

[Public Notice 11739]

Notice of Department of State Sanctions Actions Pursuant to the Protecting Europe's Energy Security Act (PEESA), as Amended

SUMMARY: The Secretary of State has terminated the waiver of sanctions on certain persons under the Protecting Europe's Energy Security Act (PEESA), as amended and imposed sanctions on one entity and one individual pursuant to PEESA.

DATES: The Secretary of State's determination regarding termination of the waiver of sanctions regarding the one entity and one individual, and imposition of sanctions on the one entity and one individual are identified in the SUPPLEMENTARY INFORMATION section. These sanctions were effective on February 23, 2022. See Supplementary Information section.

FOR FURTHER INFORMATION CONTACT: Anthony Musa, mussad@state.gov, Phone: (202) 647-1925.

SUPPLEMENTARY INFORMATION: Pursuant to Section 7503(a)(1)(A) of PEESA, as amended, the Secretary of State, in consultation with the Secretary of the Treasury, shall submit every 90 days a report to the appropriate congressional committees that identifies vessels that engaged in pipe-laying or pipe-laying activities at depths of 100 feet or more below sea level for the construction of the Nord Stream 2 pipeline project, the Turkstream pipeline project, or any project that is a successor to either such project. Pursuant to Section 7503(a)(1)(B) of PEESA, as amended, the Secretary of State, in consultation with the Secretary of the Treasury, shall also include in the report foreign persons that the Secretary of State, in consultation with the Secretary of the Treasury, determines have knowingly sold, leased, or provided, or facilitated selling, leasing, or providing, those vessels for the construction of such a project. Pursuant to Section 7503(c) of PEESA, as delegated, the Secretary of the Treasury, in consultation with the Secretary of State, shall exercise all powers granted to the President by the International Emergency Economic Powers Act to the extent necessary to block and prohibit all transactions in all property and interests in property of any person identified under subsection (a)(1)(B) of PEESA if such property and interests in property are in the United States, come within the United States, or are or come within the possession or control of a United States person. Pursuant to Section 7503(f) of PEESA, as delegated, the Secretary of State, in consultation with the Secretary of the Treasury, may waive application of sanctions under PEESA if the Secretary of State determines that the waiver is in the national interests of the United States and submits to the appropriate congressional committees a report on the waiver and the reasons for the waiver. Pursuant to E.O. 13049, with respect to any foreign person identified by the Secretary of State, in consultation with the Secretary of the Treasury, in a report to the Congress pursuant to section 7503(a)(1)(B) of PEESA, all property and interests in property of such person that are in the United States, that hereafter come within the United States, or that are or hereafter come within the possession or control of any United States person are blocked and may not be transferred, paid, exported, withdrawn, or otherwise dealt in.

On May 19, 2021 The Secretary of State determined, pursuant to Section 7503(a)(1)(B)(ii) of PEESA, as amended, that Nord Stream 2 AG and Matthias Warnig had knowingly, on or after January 1, 2021, facilitated deceptive or structured transactions to provide the pipe-laying vessel FORTUNA for the construction of the Nord Stream 2 pipeline project. On May 19, 2021, pursuant to section 7503(f) of PEESA, as amended, the Secretary of State determined that it was in the national interest of the United States to waive the application of sanctions on Nord Stream 2 AG, Matthias Warnig, and Nord Stream 2 AG corporate officers and submitted a report on the waivers and the reason for the waivers to the appropriate congressional committees. On February 23, 2022, the Secretary determined that the waiver of sanctions on Nord Stream 2 AG, Matthias Warnig, and Nord Stream 2 AG corporate officers is no longer in the national interest of the United States and accordingly terminated the waivers. Therefore, on February 23, 2022, Nord Stream 2 AG and Matthias Warnig were added to the Specially Designated Nationals and Blocked Persons List (SDN List) pursuant to PEESA and E.O. 13049. All property and interests in property of these persons that is subject to U.S. jurisdiction are blocked.

NORD STREAM 2 AG (a.k.a. NEW EUROPEAN PIPELINE AG), Baarerstrasse 52, Zug 6300, Switzerland; Gotthardstrasse 2, Zug 6300, Switzerland; Bahnhofstrasse 10, Zug 6301, Switzerland; Identification Number CHE-444.239.548 (Switzerland); Business Registration Number CH-170.3.039.850-1 (Switzerland); Business Registration Number CH-170.3.039.850-1 (Switzerland) [PEESA-E-14039].

Whitney Baird,
Principal Deputy Assistant Secretary of State, Bureau of Economic and Business Affairs, Department of State.

[FR Doc. 2022-11186 Filed 5-24-22; 8:45 am]

BILLING CODE 4710-AE-P